DEPARTMENT OF ENERGY

Western Area Power Administration

Re-Opening of Comment Period for Proposed Salt Lake City Area Integrated Projects Firm Power Rate and Colorado River Storage Project Transmission and Ancillary Services Rates—Rate Order No. WAPA-190

AGENCY: Western Area Power Administration, DOE.

ACTION: Notice of re-opening of public comment period.

SUMMARY: Western Area Power Administration (WAPA) announces the re-opening of the comment period for the proposed Salt Lake City Area Integrated Projects (SLCA/IP) firm power rate and Colorado River Storage Project (CRSP) transmission and ancillary services formula rates under Rate Order No. WAPA-190.

DATES: The comment period will begin June 26, 2020 and end July 10, 2020. WAPA will not hold any additional public information and public comment forums; however, WAPA will accept written comments anytime during the comment period.

ADDRESSES: Written comments and requests to be informed about Federal Energy Regulatory Commission (FERC) actions concerning the proposed rates submitted by WAPA to FERC for approval should be sent to: Mr. Steven Johnson, CRSP Manager, Colorado River Storage Project Management Center, Western Area Power Administration, 299 South Main Street, Suite 200, Salt Lake City, UT 84111, (801) 524-6372, or email: johnsons@wapa.gov or CRSPMC-rate-adj@wapa.gov. WAPA will continue to post information about the proposed rates and written comments received to its website at: https://www.wapa.gov/regions/CRSP/rates/Pages/rates.aspx.

FOR FURTHER INFORMATION CONTACT: Mr. Thomas Hackett, Rates Manager, Colorado River Storage Project Management Center, Western Area Power Administration, (801) 524-5503, or email: CRSPMC-rate-adj@wapa.gov.

SUPPLEMENTARY INFORMATION: The formal rate action under Rate Order No. WAPA-190 began on January 21, 2020, upon publication of the Notice of Proposed Rates in the Federal Register.¹ The 90-day comment period under the Notice of Proposed Rates ended April 20, 2020. WAPA is re-opening the comment period to provide interested parties the additional time to review and provide comments related to information about the rate proposals that were made available by WAPA during and after the original comment period. WAPA will consider any comments received between April 20, 2020 and July 10, 2020 to be timely submitted.

¹ 85 FR 3367 (Jan. 21, 2020).

Legal Authority

Existing DOE procedures for public participation in power and transmission rate adjustments (10 CFR part 903) were published on September 18, 1985, and February 21, 2019.²

² 50 FR 37835 (Sept. 18, 1985) and 84 FR 5347 (Feb. 21, 2019).

The proposed action is a major rate adjustment, as defined by 10 CFR 903.2(e). In accordance with 10 CFR 903.15(a) and 10 CFR 903.16(a), WAPA held public information and public comment forums for this rate adjustment on March 12, 2020. WAPA will review and consider all timely public comments at the conclusion of this comment period and make amendments or adjustment to the proposals, as appropriate. Proposed rates will be forwarded to the Assistant Secretary for Electricity for approval on an interim basis.

WAPA is establishing the SLCA/IP firm power rate and revised CRSP transmission and ancillary services formula rates in accordance with section 302 of the DOE Organization Act (42 U.S.C. 7152). This Act transferred to, and vested in, the Secretary of Energy the power marketing functions of the Secretary of the Department of the Interior and the Bureau of Reclamation under the Reclamation Act of 1902 (ch. 1093, 32 Stat. 388), as amended and supplemented by subsequent laws, particularly section 9(c) of the Reclamation Project Act of 1939 (43 U.S.C. 485h(c)); and other acts that specifically apply to the projects involved.

By Delegation Order No. 00-037.00B, effective November 19, 2016, the Secretary of Energy delegated: (1) The authority to develop power and transmission rates to WAPA's Administrator; (2) the authority to confirm, approve, and place such rates into effect on an interim basis to the Deputy Secretary of Energy; and (3) the authority to confirm, approve, and place into effect on a final basis, or to remand or disapprove such rates, to FERC. By Delegation Order No. 00-002.00S, effective January 15, 2020, the Secretary of Energy also delegated the authority to confirm, approve, and place such rates into effect on an interim basis to the Under Secretary of Energy. By Redelegation Order No. 00-002.10E, effective February 14, 2020, the Under Secretary of Energy further delegated the authority to confirm, approve, and place such rates into effect on an interim basis to the Assistant Secretary for Electricity.

Availability of Information

All brochures, studies, comments, letters, memoranda, or other documents that WAPA initiates or uses to develop the proposed rates are available, by appointment, for inspection and copying at the Colorado River Storage Project Management Center, 299 South Main Street, Suite 200, Salt Lake City, Utah, Documents and supporting information are also available on WAPA's website at https://www.wapa.gov/regions/CRSP/rates/Pages/rates.aspx.

Ratemaking Procedure Requirements

Environmental Compliance

WAPA has determined that this action is categorically excluded from the preparation of an environmental assessment or an environmental impact statement.³ A copy of the categorical exclusion determination is available on WAPA's website at https://www.wapa.gov/regions/CRSP/environment/Pages/environment.aspx.

³ The determination was done in compliance with the National Environmental Policy Act (NEPA) of 1969, as amended, 42 U.S.C. 4321-4347; the Council on Environmental Quality Regulations for implementing NEPA (40 CFR parts 1500-1508); and DOE NEPA Implementing Procedures and Guidelines (10 CFR part 1021).

Determination Under Executive Order 12866

WAPA has an exemption from centralized regulatory review under Executive Order 12866; accordingly, no clearance of this notice by the Office of Management and Budget is required.

Signing Authority

This document of the Department of Energy was signed on June 19, 2020, by Mark A. Gabriel, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 22, 2020.
Treena V. Garrett,
Federal Register Liaison Officer, U.S. Department of Energy.

[FR Doc. 2020-13752 Filed 6-25-20; 8:45 am]

BILLING CODE 6450-01-P